DEPARTMENT OF THE INTERIOR

Fish and Wildlife Service

[Docket No. FWS-HQ-IA-2017-0086; FXIA16710900000-178-FF09A30000]

Foreign Endangered and Threatened Species; Receipt of Permit Applications

AGENCY: Fish and Wildlife Service, Interior.

ACTION: Notice of receipt of permit applications.

SUMMARY: We, the U.S. Fish and Wildlife Service, invite the public to comment on applications to conduct certain activities with foreign endangered and threatened species. With some exceptions, the Endangered Species Act prohibits activities with listed species unless Federal authorization is acquired that allows such activities. The ESA also requires that we invite public comment before issuing these permits.

DATES: We must receive comments by February 12, 2018.

ADDRESSES:

Document availability: The applications, as well as any comments and other materials that we receive, will be available for public inspection online in Docket No. FWS-HQ-IA-2017-0086 at http://www.regulations.gov.

Submitting comments: You may submit comments by one of the following methods:

• Federal eRulemaking Portal: http://www.regulations.gov. Search for Docket No. FWS-HQ-IA-2017-0086 and follow the instructions for submitting comments.

• U.S. mail or hand-delivery: Public Comments Processing, Attn: Docket No. FWS-HQ-IA-2017-0086; U.S. Fish and Wildlife Service, MS: BPHC; 5275 Leesburg Pike, Falls Church, VA 22041-3803.

When submitting comments, please include the name of the applicant and the PRT# at the beginning of your comment. We will post all comments on http://www.regulations.gov. This generally means that we will post any personal information you provide (see SUPPLEMENTARY INFORMATION for more information).

FOR FURTHER INFORMATION CONTACT: Joyce Russell, 703-358-2023.

SUPPLEMENTARY INFORMATION:

I. Public Comment Procedures

A. How do I comment on submitted applications?

You may submit your comments and materials by one of the methods listed under Submitting Comments in the ADDRESSES section. We will not consider comments sent by email or fax, or to an address not in the ADDRESSES section.

Please make your comments as specific as possible, confine your comments to issues for which we seek information as described in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (DATES) or comments delivered to an address other than those listed in ADDRESSES.

B. May I review comments submitted by others?

Comments, including names and street addresses of respondents, will be available for public review online at http://www.regulations.gov and at the street address in ADDRESSES. The public may review documents and other information applicants have sent in support of their applications unless our allowing such viewing would violate the Privacy Act (5 U.S.C. 552a) or the Freedom of Information Act (5 U.S.C. 552).

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so.

II. Background

To help us carry out our conservation responsibilities for affected species, and in consideration of section 10(a)(1)(A) of the Endangered Species Act of 1973, as amended (16 U.S.C. 1531 et seq.; ESA), along with Executive Order 13576, “Delivering an Efficient, Effective, and Accountable Government,” and the President's Memorandum for the Heads of Executive Departments and Agencies of January 21, 2009—Transparency and Open Government (74 FR 4685; Jan. 26, 2009), which call on all Federal agencies to promote openness and transparency in Government by disclosing information to the public, we invite public comment on these permit applications before final action is taken.

III. Permit Applications

We invite the public to comment on applications to conduct certain activities with endangered species. With some exceptions, the ESA prohibits activities with listed species unless Federal authorization is acquired that allows such activities.

Applicant: Smithsonian National Zoological Park, Washington, DC; PRT-007870

The applicant requests reissuance of their permit for scientific research with captive-born giant pandas (Ailuropoda melanoleuca) currently held under loan agreement with the Government of China and under the provisions of the Service Giant Panda Policy. The proposed research will cover all aspects of behavior, reproductive physiology, genetics, nutrition, and animal health, and will be continuation of activities currently in progress. This notification covers activities conducted by the applicant over a 5-year period.

Applicant: Dawn Carone, Swarthmore, PA; PRT-40245C

The applicant requests a permit to import biological samples from wild Sumatran orangutan (Pongo abelii) and western gorilla (gorilla gorilla) for scientific research. This notification is for a single import. This notification covers activities to be conducted by the applicant over a 1-year period.

Applicant: University of Georgia, College of Veterinary Medicine, Infectious Diseases Laboratory, Athens, GA; PRT-45805C

The applicant requests authorization to import tissue or blood samples of any avian species (class Aves), reptile species (class Reptilia), and fish (within the taxonomic phylum Chordata) from locations worldwide for the purpose of diagnostic testing for infectious diseases/scientific research. This notification covers activities to be conducted by the applicant over a 5-year period.

Applicant: Mr. Vincent Rose, American Crocodile Education Sanctuary, North Fort Meyers, FL; PRT-44876C

The applicant requests authorization to import the skull of an American crocodile (Crocodylus acutus) from Belize to enhance the propagation or survival of the species. This notification is for a single import.

Trophy Applicants

The following applicants each request a permit to import a sport-hunted trophy of a male bontebok (Damaliscus pygargus pygargus) culled from a captive herd maintained under the management program of the Republic of South Africa, for the purpose of enhancing the propagation or survival of the species.

Applicant: Michael Kincaid, Mukilteo, WA; PRT-53993C

Applicant: Tim Brown, Oregon City, OR; PRT-52676C

Applicant: Christopher O'Connor, Dumfries, VA; PRT-55019C

Applicant: Verne Williamson, Ashland, VA; PRT-46104C

Applicant: Edward Aston, San Juan Capistrano, CA PRT-54247C

Applicant: Benard Calvin Hendrick VII, Odessa, TX; PRT 55894C

Applicant: Kevin H. Young, Chehalis, WA; PRT-57502C

Applicant: William S. Montgomery Jr., Dallas, TX; PRT-58300C

IV. Next Steps

If the Service decides to issue permits to any of the applicants listed in this notice, we will publish a notice in the Federal Register. You may locate the Federal Register notice announcing the permit issuance date by searching regulations.gov under the permit number listed in this document (e.g., PRT-12345C).

V. Authority

The authority for this action is the Endangered Species Act of 1973 (16 U.S.C. 1531 et seq.).

Joyce Russell,
Government Information Specialist, Branch of Permits, Division of Management Authority.

[FR Doc. 2018-00321 Filed 1-10-18; 8:45 am]

BILLING CODE 4333-15-P